DEPARTMENT OF COMMERCE

International Trade Administration

[A-570-970]

Multilayered Wood Flooring From the People's Republic of China: Correction to the Final Results of Antidumping Duty Administrative Review

AGENCY: Enforcement and Compliance, International Trade Administration, Department of Commerce.

FOR FURTHER INFORMATION CONTACT: Lilit Astvatsatrian or William Horn, AD/CVD Operations, Office IV, Enforcement and Compliance, International Trade Administration, Department of Commerce, 14th Street and Constitution Avenue NW., Washington, DC 20230; telephone: (202) 482-6412 or (202) 482-2615, respectively.

SUPPLEMENTARY INFORMATION: On July 19, 2016, the Department of Commerce (“the Department”) published the final results of the 2013-2014 administrative review of the antidumping duty order on multilayered wood flooring from the People's Republic of China (“PRC”).¹ The period of review (“POR”) is December 1, 2013, through November 30, 2014. The Department is issuing this notice to correct an inadvertent error in the Final Results. Specifically, the Department inadvertently omitted identifying several companies that are part of the PRC-wide entity. The Department finds that 16 companies subject to this review did not establish eligibility for a separate rate. As such, we determine they are part of the PRC-wide entity. The following companies were named in the Initiation of Antidumping and Countervailing Duty Administrative Reviews, 80 FR 6041 (February 4, 2014), but did not submit a certification of no shipment, separate rate application, or separate rate certification; therefore they are part of the PRC-wide entity: Anhui Suzhou Dongda Wood Co., Ltd.; Baiying Furniture Manufacturer Co., Ltd.; Cheng Hang Wood Co., Ltd.; Dalian Jiuyuan Wood Industry Co., Ltd.; Fu Lik Timber (HK) Co., Ltd.; Guangzhou Homebon Timber Manufacturing Co., Ltd.; HaiLin XinCheng Wooden Products, Ltd.; Hangzhou Dazhuang Floor Co., Ltd (dba Dasso Industrial Group Co., Ltd); Linyi Anying Wood Co., Ltd.; Qingdao Barry Flooring Co., Ltd. ; Shanghai Anxin (Weiguang) Timber Co., Ltd.; Vicwood Industry (Suzhou) Co., Ltd.; Zhejiang AnJi XinFeng Bamboo & Wood Industry Co., Ltd.; Zhejiang Desheng Wood Industry Co., Ltd.; Zhejiang Haoyun Wooden Co., Ltd.; and Zhejiang Shiyou Timber Co., Ltd. Because no party requested a review of the PRC-wide entity and the Department no longer considers the PRC-wide entity as an exporter conditionally subject to administrative reviews,² we did not conduct a review of the PRC-wide entity. Thus, the rate for the PRC-wide entity is not subject to change as a result of this review.

¹ See Multilayered Wood Flooring from the People's Republic of China: Final Results of Antidumping Duty Administrative Review; 2013-2014, 81 FR 46899 (July 19, 2016) (“Final Results”).

² See Antidumping Proceedings: Announcement of Change in Department Practice for Respondent Selection in Antidumping Duty Proceedings and Conditional Review of the Nonmarket Economy Entity in NME Antidumping Duty Proceedings, 78 FR 65963, 65969-70 (November 4, 2013).

This correction to the final results of administrative review is issued and published in accordance with sections 751(h) and 777(i)(2)(i) of the Tariff Act of 1930, as amended.

Dated: August 5, 2016.
Ronald K. Lorentzen,
Acting Assistant Secretary for Enforcement and Compliance.

[FR Doc. 2016-19133 Filed 8-10-16; 8:45 am]

BILLING CODE 3510-DS-P